DEPARTMENT OF STATE

[Public Notice 8300]

Advisory Committee on International Economic Policy; Notice of Open Meeting

The Advisory Committee on International Economic Policy (ACIEP) will meet from 2:00 p.m. to 4:00 p.m. on Tuesday, May 14, 2013, in Room 1105 of the Harry S. Truman Building at the U.S. Department of State, 2201 C Street NW., Washington, DC. The meeting will be hosted by the Assistant Secretary of State for Economic and Business Affairs Jose W. Fernandez and Committee Chair Ted Kassinger. The ACIEP serves the U.S. Government in a solely advisory capacity, and provides advice concerning issues and challenges in international economic policy. The meeting will examine trade and investment issues, including the Trans-Pacific Partnership. Subcommittee reports will be provided by the Investment Subcommittee, the Sanctions Subcommittee, the Subcommittee on Women in International Economic Policy, and the Stakeholder Advisory Board on the U.S. National Contact Point for the Organization for Economic Cooperation and Development Guidelines for Multinational Enterprises.

This meeting is open to public participation, though seating is limited. Entry to the building is controlled; to obtain pre-clearance for entry, members of the public planning to attend should provide, by Thursday, May 9, their name, professional affiliation, valid government-issued ID number (i.e., U.S. Government ID [agency], U.S. military ID [branch], passport [country], or drivers license [state]), date of birth, and citizenship, to Ronelle Jackson by fax (202) 647-5936, email (JacksonRS@state.gov), or telephone (202) 647-9204. All persons wishing to attend the meeting must use the 23rd Street entrance of the State Department. Because of escorting requirements, non-Government attendees should plan to arrive 15 minutes before the meeting begins. Requests for reasonable accommodation should be made to Ronelle Jackson before Thursday, May 9. Requests made after that date will be considered, but might not be possible to fulfill.

Personal data is requested pursuant to Public Law 99-399 (Omnibus Diplomatic Security and Antiterrorism Act of 1986), as amended; Public Law 107-56 (USA PATRIOT Act); and Executive Order 13356. The purpose of the collection is to validate the identity of individuals who enter Department facilities. The data will be entered into the Visitor Access Control System (VACS-D) database. Please see the Security Records System of Records Notice (State-36) at http://www.state.gov/documents/organization/103419.pdf for additional information.

For additional information, contact Gregory Maggio, Office of Economic Policy Analysis and Public Diplomacy, Bureau of Economic and Business Affairs, at (202) 647-2231 or MaggioGFmailto:@state.gov.

Dated: April 22, 2013.
Laura Kirkconnell Director,
Office of Economic Policy Analysis and Public Diplomacy.

[FR Doc. 2013-09962 Filed 4-25-13; 8:45 am]

BILLING CODE 4710-07-P